COMMITTEE FOR PURCHASE FROM PEOPLE WHO ARE BLIND OR SEVERELY DISABLED

Procurement List; Additions

AGENCY: Committee for Purchase From People Who Are Blind or Severely Disabled.

ACTION: Additions to procurement list.

SUMMARY: This action adds to the Procurement List products and services to be furnished by nonprofit agencies employing persons who are blind or have other severe disabilities.

EFFECTIVE DATE: July 6, 2003.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION: On September 13, December 27, 2002, January 31, and April 4, 2003, the Committee for Purchase From People Who Are Blind or Severely Disabled published notice (67 FR 58013, 79044, 68 FR 4985 and 16467) of proposed additions to the Procurement List. After consideration of the material presented to it concerning capability of qualified nonprofit agencies to provide the products and services and impact of the additions on the current or most recent contractors, the Committee has determined that the products and services listed below are suitable for procurement by the Federal Government under 41 U.S.C. 46-48c and 41 CFR 51-2.4. I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

Accordingly, the following products and services are added to the Procurement List:

Products

Product/NSN: 2 in 1 Scrubber Squeegee M.R. 1036.

NPA: The Lighthouse for the Blind, Inc. (Seattle Lighthouse), Seattle, Washington.

Contract Activity: Defense Commissary Agency (DeCA), Ft. Lee, Virginia.

Product/NSN: Amazing Micro Mop, M.R. 1049.

NPA: The Lighthouse for the Blind, Inc. (Seattle Lighthouse), Seattle, Washington.

Contract Activity: Defense Commissary Agency (DeCA), Ft. Lee, Virginia.

Services

Service Type/Location: Janitorial/Custodial, Austin Straubel International Airport, ATCT and Base Building, Green Bay, Wisconsin.

NPA: Brown County ARC, Inc., Green Bay, Wisconsin.

Contract Activity: Federal Aviation Administration, Des Plaines, Illinois.

Service Type/Location: Janitorial/Custodial, Department of Veterans Affairs, Community Based Outpatient Clinic, Muskegon, Michigan.

NPA: Goodwill Industries of West Michigan, Inc., Muskegon, Michigan.

Contract Activity: Department of Veterans Affairs, Battle Creek, Michigan.

Service Type/Location: Janitorial/Custodial, Naval Reserve Center, La Crosse, Wisconsin.

NPA: Riverfront Activity Center, Inc., La Crosse, Wisconsin.

Contract Activity: Naval Facilities Engineering Command, Crane, Indiana.

Service Type/Location: Janitorial/Custodial, U.S. Army Reserve Center, Arlington Heights, Arlington Heights, Illinois.

NPA: Jewish Vocational Service and Employment Center, Chicago, Illinois.

Contract Activity: Headquarters, 88th Regional Support Command, Fort Snelling, Minnesota.

This action does not affect current contracts awarded prior to the effective date of this addition or options that may be exercised under those contracts.

Sheryl D. Kennerly,
Director, Information Management.

[FR Doc. 03-14339 Filed 6-5-03; 8:45 am]

BILLING CODE 6353-01-P